DEPARTMENT OF HOMELAND SECURITY

Coast Guard

33 CFR Part 117

[Docket No. USCG-2014-0466]

Drawbridge Operation Regulation; Lake Washington, Seattle, WA

AGENCY: Coast Guard, DHS.

ACTION: Notice of deviation from drawbridge regulation.

SUMMARY: The Coast Guard has issued a temporary deviation from the operating schedule that governs the Washington Department of Transportation (WSDOT) State Route 520/Evergreen Point Floating Bridge across Lake Washington at Seattle, WA. This deviation allows the bridge to remain in the closed position to accommodate the safe movement of “Rock and Roll Run” event participants.

DATES: This deviation is effective from 11 a.m. to 2 p.m. on June 21, 2014.

ADDRESSES: The docket for this deviation, [USCG-2014-0466] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email Steven.M.Fischer3@uscg.mil. If you have questions on viewing the docket, call Cheryl Collins, Program Manager, Docket Operations, telephone 202-366-9826.

SUPPLEMENTARY INFORMATION: The WSDOT requested a temporary deviation from the operating schedule for the State Route 520/Evergreen Point Floating Bridge across Lake Washington at Seattle, WA. The requested deviation is necessary to accommodate safe movement of “Rock and Roll Run” event participants. This deviation allows the State Route 520/Evergreen Point Floating Bridge across Lake Washington at Seattle, WA to remain in the closed position and need not open for vessel traffic from 11 a.m. to 2 p.m. on June 21, 2014. Vessels which do not require bridge openings may continue to transit beneath the bridge during the closure period.

The Evergreen Point Floating Bridge provides three navigational openings for vessel passage, the movable floating span, subject to this closure, and two fixed navigational openings; one on the east end of the bridge and one on the west end. The fixed navigational opening on the east end of the bridge provides a horizontal clearance of 150 feet and a vertical clearance of 57 feet. The opening on the west end of the bridge provides a horizontal clearance of 170 feet and a vertical clearance of 45 feet. Vessels that are able to safely pass through the fixed navigational openings are allowed to do so during this closure period. Under normal conditions, during this time frame, the bridge operates in accordance with 33 CFR 117.1049 which states the bridge shall open on signal if at least two hours notice is given. This deviation period is from 11 a.m. to 2 p.m. June 21, 2014. The deviation allows the floating draw span of the Evergreen Point Floating Bridge on Lake Washington to remain in the closed position and need not open for maritime traffic from 11 a.m. to 2 p.m. on June 21, 2014. Waterway usage on Lake Washington ranges from commercial tug and barge to small pleasure craft. Mariners will be notified and kept informed of the bridges' operational status via the Coast Guard Notice to Mariners publication and Broadcast Notice to Mariners as appropriate. The bridge will be required to open, if needed, for vessels engaged in emergency response operations during this closure period.

In accordance with 33 CFR 117.35(e), the drawbridge must return to its regular operating schedule immediately at the end of the designated time period. This deviation from the operating regulations is authorized under 33 CFR 117.35.

Dated: June 6, 2014.
Steven M. Fischer,
Bridge Administrator, Thirteenth Coast Guard District.

[FR Doc. 2014-14163 Filed 6-16-14; 8:45 am]

BILLING CODE 9110-04-P